DEPARTMENT OF THE INTERIOR

Bureau of Land Management

Fish and Wildlife Service

[FWS-R8-ES-2014-N165]

Notice of Availability of the Draft Desert Renewable Energy Conservation Plan and Draft Environmental Impact Statement/Environmental Impact Report, California

AGENCY: Bureau of Land Management, Interior; Fish and Wildlife Service, Interior.

ACTION: Notice.

SUMMARY: In accordance with the National Environmental Policy Act of 1969, as amended (NEPA); the Federal Land Policy and Management Act of 1976, as amended (FLPMA); and the Endangered Species Act of 1973, as amended (ESA); the Bureau of Land Management (BLM) and the Fish and Wildlife Service (FWS) have partnered with the California Energy Commission (CEC) and the California Department of Fish and Wildlife (CDFW) (collectively, the Agencies) to prepare the Draft Desert Renewable Energy Conservation Plan (DRECP) and Draft Environmental Impact Statement and Environmental Impact Report (EIS/EIR). The Draft DRECP includes Draft BLM Land Use Plan Amendments for the California Desert Conservation Area (CDCA) Plan, Bishop Resource Management Plan (RMP), and the Caliente/Bakersfield RMP; a FWS-proposed Habitat Conservation Plan (General Conservation Plan); and a CDFW-proposed Natural Community Conservation Plan. The Draft DRECP covers parts of Imperial, Inyo, Kern, Los Angeles, Riverside, San Bernardino, and San Diego Counties, California. By this notice, the Agencies are announcing the availability of the Draft DRECP and Draft EIS/EIR, the receipt of permit applications under Section 10 of the ESA from CEC and the California State Lands Commission (CSLC), and the opening of the comment period on the Draft DRECP and Draft EIS/EIR and the information provided in the permit applications.

DATES: To ensure that comments will be considered, the Agencies must receive written comments on the Draft DRECP and Draft EIS/EIR within 90 days following the date the Environmental Protection Agency publishes its notice of the Draft DRECP and Draft EIS/EIR in the Federal Register. The Agencies will announce future meetings or hearings and any other public participation activities at least 15 days in advance through public notices, media releases, and/or mailings.

ADDRESSES: You may submit comments related to the Draft DRECP by any one of the following methods:

• Web site: http://drecp.org/;

• Email: docket@energy.ca.gov; or

• U.S. mail or hand-delivery: California Energy Commission, Dockets Office, MS-4, Docket No. 09-RENEW EO-01, 1516 Ninth Street, Sacramento, CA 95814-5512.

Copies of the Draft DRECP and Draft EIS/EIR are available online at http://drecp.org, and at locations listed under the SUPPLEMENTARY INFORMATION section.

FOR FURTHER INFORMATION CONTACT: • Vicki Campbell, DRECP Program Manager, BLM California State Office, by telephone at 916-978-4401; U.S. mail at 2800 Cottage Way, Suite W-1623, Sacramento, CA 95825; or email at drecp@blm.gov; or

• Kennon Corey, Assistant Field Supervisor, Palm Springs Fish and Wildlife Office, by telephone at 760-322-2070; U.S. mail at 777 East Tahquitz Canyon Way, Suite 208, Palm Springs, CA 92262; or email at FW8cfwocomments@fws.gov

Telecommunications device for the deaf (TDD): Persons who use a TDD may call the Federal Information Relay Service (FIRS) at 1-800-877-8339 to contact the above individuals during normal business hours. The FIRS is available 24 hours a day, 7 days a week, to leave a message or question for the above individuals. You will receive a reply during normal business hours.

SUPPLEMENTARY INFORMATION: The Agencies prepared the Draft DRECP to advance State and Federal conservation goals in the desert regions of California, while also facilitating the timely permitting of renewable energy projects in appropriate areas, under applicable State and Federal laws.

The Draft DRECP comprises three elements that together formulate an integrated interagency plan for permitting renewable energy and transmission development in the Mojave and Colorado/Sonoran Deserts of southern California: the BLM's proposed Land Use Plan Amendments to the CDCA Plan, Bishop RMP, and Caliente/Bakersfield RMP; the FWS's proposed Habitat Conservation Plan (General Conservation Plan); and the CDFW's proposed Natural Community Conservation Plan. The BLM and the FWS as Federal co-lead agencies have prepared the EIS portion of the Draft EIR/EIS for their respective proposed actions under the Draft DRECP. The planning goals of the interagency Draft DRECP include the following:

• Provide for the longer term conservation and management of covered species within the Draft DRECP plan area through strategic habitat conservation at the landscape level;

• Preserve, restore, and enhance natural communities and ecosystems that support covered species within the Draft DRECP area;

• Build on the competitive renewable energy zones identified by the Renewable Energy Transmission Initiative and the Solar Energy Zones identified in the BLM Solar Programmatic EIS record of decision;

• Further identify the most appropriate locations within the Draft DRECP area for the development of utility-scale renewable energy projects, taking into account potential impacts to threatened and endangered species and sensitive natural communities;

• Provide a means to implement covered activities in a manner that complies with the ESA, California Endangered Species Act (CESA), Natural Community Conservation Planning Act, NEPA, California Environmental Quality Act, and other relevant laws;

• Provide a basis for the issuance of “take” authorizations allowing the lawful take of covered species incidental to covered activities;

• Provide for issuance of take authorizations for other covered species that are not currently listed but which may be listed in the future;

• Provide a comprehensive means to coordinate and standardize mitigation and compensation requirements for covered activities within the plan area;

• Provide a framework for regional mitigation strategies for covered activities on both private and public land;

• Provide a framework for a more efficient process by which proposed renewable energy projects within the plan area may obtain regulatory authorizations, and which results in greater conservation values than would a project-by-project, species-by-species review; and

• Identify and incorporate climate change adaptation research, management objectives, and policies into the final plan document.

The Draft DRECP Planning Area includes approximately 22.5 million acres of Federal and non-Federal land in the Mojave and Colorado/Sonoran Desert regions of southern California, including portions of seven counties (Imperial, Inyo, Kern, Los Angeles, Riverside, San Bernardino, and San Diego). The Draft DRECP and Draft EIS/EIR include proposed BLM Land Use Plan Amendments in accordance with FLPMA; a proposed Habitat Conservation Plan (General Conservation Plan) in accordance with Section 10 of the ESA; and a Natural Community Conservation Plan in accordance with the California Natural Community Conservation Planning Act of 1991. The proposed Natural Community Conservation Plan would cover both Federal (to the extent permitted by law) and non-Federal lands.

BLM Proposed Land Use Plan Amendments

The BLM is proposing Land Use Plan Amendments to the CDCA Plan, the Bishop RMP, and Caliente/Bakersfield RMP for the approximately 10 million acres of BLM-managed public lands within the Draft DRECP Planning Area. The Land Use Plan Amendments would designate approximately 400,000 acres of Development Focus Areas for solar, wind, and geothermal development on public lands; 3.5 million acres of National Conservation Lands within the CDCA in accordance with the Omnibus Public Land Management Act of 2009; and 2 million acres of existing, modified, and new Areas of Critical Environmental Concern and wildlife allocations. The BLM Draft DRECP Land Use Plan Amendments would also designate 2.5 million acres of existing, modified, and new Special Recreation Management Areas. The Draft DRECP Land Use Plan Amendments also include Conservation and Management Actions for the management of these designations.

FWS Proposed General Conservation Plan

The FWS is proposing to issue permits for incidental take of covered species under a programmatic type of habitat conservation plan called a general conservation plan (GCP), which the FWS has prepared to meet the requirements of the habitat conservation plan process under section 10 of the ESA. A GCP is an umbrella type of multiple-species habitat conservation plan intended to streamline permit decisions for similar actions on a large scale. The Draft GCP incorporates the Draft DRECP's biological goals and objectives, conservation and management actions, and comprehensive reserve design. The proposed GCP is outlined in an appendix to the Draft DRECP and Draft EIR/EIS. The NEPA analysis for the GCP appears in the main volumes of the Draft EIR/EIS. As an integral component of the Draft DRECP and Draft EIS/EIR, the Draft GCP analyzes the effects of incidental take of covered species resulting from all Draft DRECP covered activities on approximately 1.6 million acres of non-Federal lands within the Draft DRECP Development Focus Areas, including the design, siting, construction, operation, maintenance, and decommissioning of renewable energy facilities (solar photovoltaic, solar thermal, wind, and geothermal) and associated transmission construction, operations, and maintenance; and habitat conservation, restoration, enhancement, and creation activities on Federal and non-Federal lands. Appropriate conservation lands to mitigate the effects of take would be acquired from willing sellers within an area of approximately 2.7 million acres of non-Federal lands within the Draft DRECP reserve design. The FWS has developed the Draft GCP to streamline issuance of incidental take permits for current and future applicants. The FWS intends to issue incidental take permits for varying durations through the year 2040 to individual applicants whose proposed projects comply with the terms and conditions of the GCP. The GCP streamlined permitting process would be open to any non-Federal applicant, including State agencies, local jurisdictions (cities, counties), and individual project proponents. CEC and CSLC, as the first applicants for permits under the GCP, are requesting incidental take permits for renewable energy development on non-Federal lands for a term through 2040, pursuant to the regulatory requirements of ESA Section 10(a)(1)(B). Application materials from CEC and CSLC are available for public review concurrently with the proposed GCP in the Draft DRECP and Draft EIS/EIR. If the FWS finds the GCP consistent with ESA Section 10(a)(2)(B) incidental take permit issuance criteria and NEPA (43 U.S.C. 4321 et seq.) requirements, and also finds the CEC and CSLC permit applications consistent with the GCP and other permit requirements, the FWS would issue the CEC and CSLC permits after completion of internal decision documents and the signing of a record of decision. CEC and CSLC then could extend their take authorizations to renewable energy proponents under their respective jurisdictions.

Section 9 of the ESA and Federal regulations prohibit the take of a fish or wildlife species listed as endangered or threatened. Under the ESA, the following activities are defined as take: To harass, harm, pursue, hunt, shoot, wound, kill, trap, capture, or collect listed wildlife species, or attempt to engage in such conduct (16 U.S.C. 1532). Under certain circumstances, the FWS may issue permits to authorize “incidental take” of listed wildlife species under ESA Section 10(a)(1)(B) on non-Federal lands. Incidental take is take that is incidental to, and not the purpose of, carrying out an otherwise lawful activity. Regulations governing permits for endangered and threatened species are at 50 CFR 17.22 and 50 CFR 17.32, respectively.

Section 10 of the ESA specifies the requirements for the issuance of incidental take permits to non-Federal entities. Any proposed take must be incidental to otherwise lawful activities and cannot appreciably reduce the likelihood of the survival and recovery of the species in the wild. The impacts of such take must also be minimized and mitigated to the maximum extent practicable. To obtain an incidental take permit, an applicant must prepare a habitat conservation plan describing the impacts that will likely result from the proposed taking, the measures for minimizing and mitigating the impacts of the take, a process to address unforeseen circumstances, the funding available to implement such measures, alternatives to the taking, and the reason why such alternatives are not being implemented. The FWS has prepared the GCP to meet the requirements of an ESA Section 10 Habitat Conservation Plan, and would consider applications that comply with the terms and conditions of the GCP as also meeting Section 10 requirements.

Covered Species are those species addressed in the Draft DRECP and Draft EIR/EIS for which applicants may seek incidental take authorizations. The Draft DRECP's 37 proposed covered species include threatened and endangered species listed under the ESA, species listed under CESA, and unlisted species of Federal and State conservation concern. If the GCP is approved, any permits issued under the GCP would authorize take of listed covered species effective at the time of permit issuance. Take of the currently non-listed covered species would be authorized concurrent with their listing under the ESA, should they be listed during the permit period. Please note that the list of covered species may change as a result of public comments.

The proposed GCP and any permits issued under the GCP would cover the following nine animal species that are currently listed under the ESA:

Species | Status
Desert pupfish (Cyprinodon macularius) | Endangered.
Mohave tui chub (Siphateles [Gila] bicolor mohavensis) | Endangered.
Owens pupfish (Cyprinodon radiosus) | Endangered.
Owens tui chub (Siphateles [Gila] bicolor snyderi) | Endangered.
Agassiz's desert tortoise (Gopherus agassizii) | Threatened
California condor (Gymnogyps californianus) | Endangered.
Least Bell's vireo (Vireo bellii pusillus) | Endangered.
Southwestern willow flycatcher (Empidonax traillii) | Endangered.
Yuma clapper rail (Rallus longirostris yumanensis) | Endangered

The GCP and permits also would cover 18 animal species that are not currently listed under the ESA:

Species
Flat-tailed horned lizard (Phrynosoma mcallii).
Mojave fringe-toed lizard (Uma scoparia).
Tehachapi slender salamander (Batrachoseps stebbinsi).
Bendire's thrasher (Toxostoma bendirei).
Burrowing owl (Athene cunicularia).
California black rail (Laterallus jamaicensis coturniculus).
Gila woodpecker (Melanerpes uropygialis).
Golden eagle (Aquila chrysaetos).
Greater Sandhill crane (Grus canadensis tabida).
Mountain plover (Charadrius montanus).
Swainson's hawk (Buteo swainsoni).
Tricolored blackbird (Agelaius tricolor).
Western yellow-billed cuckoo (Coccyzus americanus occidentalis).
Desert bighorn sheep (Ovis Canadensis nelsoni).
California leaf-nosed bat (Macrotus californicus).
Mohave ground squirrel (Spermophilus [Xerospermophilus] mohavensis).
Pallid bat (Antrozous pallidus).
Townsend's big-eared bat (Corynorhinus townsendii).

The take prohibition in Section 9 of the ESA does not apply to federally listed plant species, and authorization under an ESA Section 10 permit is not required. However, ESA Section 7(a)(2) prohibits Federal agencies from jeopardizing the continued existence of any listed plant or animal species, or destroying or adversely modifying the critical habitat of such species. The GCP proposes to cover 10 plant species in recognition of the conservation benefits to be provided for them under the Draft DRECP, and the assurances permit holders would receive if they are included on a permit. GCP covered species include the following three federally listed plant species: Endangered Bakersfield cactus (Opuntia basilaris var. treleasei), threatened Parish's daisy (Erigeron parishii), and endangered triple-ribbed milk-vetch (Astragalus tricarinatus). In addition, the following seven non-listed plant species are proposed as GCP covered species: alkali mariposa-lily (Calochortus striatus), Barstow woolly sunflower (Eriophyllum mohavense), desert cymopterus (Cymopterus deserticola), Little San Bernardino Mountains linanthus (Linanthus maculatus), Mojave monkeyflower (Mimulus mohavensis), Mojave tarplant (Deinandra mohavensis), and Owens Valley checkerbloom (Sidalcea covillei).

Alternatives Considered

The Draft DRECP and Draft EIS/EIR include the Agencies' preferred alternative, four additional action alternatives, and a no-action alternative. Action alternatives analyzed in detail in the interagency Draft DRECP are the result of integrating varying locations and configurations for renewable energy and reserve designs on both Federal and non-Federal lands. The configurations of Development Focus Areas in the action alternatives reflect different approaches to balancing the goals for minimizing biological resource conflicts and maximizing opportunities to site renewable energy projects in areas of high-value renewable energy resources to attain the Draft DRECP's renewable energy generation target of 20,000 megawatts. Accordingly, alternatives reflect varying locations, acreages, and configurations of lands within the Development Focus Areas and reserve design. As required by NEPA, the Draft EIS/EIR identifies and analyzes potentially significant direct, indirect, and cumulative impacts of the Agencies' proposed actions on biological and other environmental resources. The Draft EIS considers the following alternatives:

1. Proposed Action: The proposed action includes approval of the BLM's proposed Land Use Plan Amendments and FWS's proposed GCP, and issuance of incidental take permits for applications that are consistent with the terms and conditions of the GCP, beginning with consideration of permit applications from CEC and CSLC;

2. No Action: Under this alternative, the Agencies would not approve the Draft DRECP, meaning that renewable energy proponents likely would seek individual, non-streamlined authorizations from the BLM and the FWS for renewable energy development, as needed; and

3. Other Action Alternatives: Four additional action alternatives address different scenarios of renewable energy development, species conservation on Federal and non-Federal lands, and areas established as National Conservation Lands.

Copies of the Draft DRECP and Draft EIS/EIR are available at the following locations:

• BLM California State Office, 2800 Cottage Way, Suite W-1623, Sacramento, CA 95825;

• BLM California Desert District Office, 22835 Calle San Juan De Los Lagos, Moreno Valley, CA 92553;

• BLM Barstow Field Office, 2601 Barstow Road, Barstow, CA 92311;

• BLM El Centro Field Office, 1661 S. 4th Street, El Centro, CA 92243;

• BLM Needles Field Office, 1303 S. Highway 95, Needles, CA 92363;

• BLM Palm Springs South Coast Field Office, 1201 Bird Center Drive, Palm Springs, CA 92262;

• BLM Ridgecrest Field Office, 300 S. Richmond Road, Ridgecrest, CA 93555;

• BLM Bakersfield Field Office, 3801 Pegasus Drive, Bakersfield, CA 93308;

• BLM Bishop Field Office, 351 Pacu Lane, Suite 100, Bishop, CA 93514; and

• FWS Palm Springs Fish and Wildlife Office, 777 East Tahquitz Canyon Way, Suite 208, Palm Springs, CA 92262.

Electronic copies (computer disks) will also be available at public libraries throughout the Planning Area.

Please contact the BLM or the FWS for information on other locations.

Public Availability of Comments

Please note that public comments and information submitted—including names, street addresses, and email addresses of persons who submit comments—will be available for public review and disclosure at http://drecp.org.

Before including your address, phone number, email address, or other personal identifying information in your comment, you should be aware that your entire comment—including your personal identifying information—may be made publicly available at any time. While you can ask us in your comment to withhold your personal identifying information from public review, we cannot guarantee that we will be able to do so.

Authority: 40 CFR 1506.6; 40 CFR 1506.10; 43 CFR 1610.2.

Thomas Pogacnik,
Deputy State Director, Bureau of Land Management.
Alexandra Pitts,
Deputy Regional Director, Fish and Wildlife Service.

[FR Doc. 2014-22834 Filed 9-25-14; 8:45 am]

BILLING CODE 4310-55-P